Title 3—

The President

Proclamation 10679 of November 30, 2023

National Impaired Driving Prevention Month, 2023

By the President of the United States of America

A Proclamation

This holiday season, too many American families will have an empty seat at their table after losing a loved one in a drunk or drug-impaired driving accident. More than 10,000 Americans die every year in these preventable crashes. During National Impaired Driving Prevention Month, we call on everyone to help save a life by planning ahead, calling for a ride, only driving when sober, and helping friends and loved ones do the same every time.

Nearly a third of deadly car wrecks in America involve alcohol, and some 26 million people drove under the influence in 2020, endangering themselves, passengers and passersby, and the law enforcement officers who work to keep our roads safe. Just one drink or pill can destroy a cascade of lives.

The best way to reduce the deadly cost of impaired driving is prevention, which starts by raising awareness of its risks and consequences and by working to treat substance misuse in the first place. The National Highway Traffic Safety Administration has invested in media campaigns like “If You Feel Different, You Drive Different”; “Drive Sober or Get Pulled Over”; and “Drive High, Get a DUI,” but it is on all of us to help spread the word, offer to be a designated driver for others when we can, and call a ride or ask for help when we need it. Meanwhile, for Fiscal Year 2024, my Administration asked the Congress for $26 billion more to fund prevention, treatment, and recovery support services for substance misuse and $20 billion to reduce the supply of illicit substances entering our country to help keep communities safe. Since taking office, my Administration has committed to provide over $169 billion in drug control funding to end the overdose crisis.

My Administration is advancing new tools that can help prevent driving under the influence and improve road safety. Our Bipartisan Infrastructure Law invests in technologies that can detect and prevent impaired driving, and it requires all new passenger cars to include features like collision warnings and automatic emergency braking, which can help to avoid accidents. The Department of Transportation's National Roadway Safety Strategy works to eliminate traffic deaths and make crashes less destructive. For example, their Safe Streets and Roads for All program offers more than $800 million in grants to help cities, counties, Tribes, and other organizations plan and implement measures improve the safety of our Nation's roadways.

As we head into the holiday seasons, we urge Americans everywhere to do the right thing. If you plan on drinking, arrange a sober ride home in advance; ride-sharing apps have made getting home safely easier than ever. If you have used any substance, never get behind the wheel. If you see someone—a friend, loved one, colleague, or anyone else—putting themselves or others at risk, offer to help. It matters. You could save a life.

NOW, THEREFORE, I, JOSEPH R. BIDEN JR., President of the United States of America, by virtue of the authority vested in me by the Constitution and the laws of the United States, do hereby proclaim December 2023 as National Impaired Driving Prevention Month. I urge all Americans to make responsible decisions and take appropriate measures to prevent impaired driving.

IN WITNESS WHEREOF, I have hereunto set my hand this thirtieth day of November, in the year of our Lord two thousand twenty-three, and of the Independence of the United States of America the two hundred and forty-eighth.

[FR Doc. 2023-26840

Filed 12-4-23; 11:15 am]

Billing code 3395-F4-P